DEPARTMENT OF DEFENSE

Department of the Army; Corps of Engineers

Intent To Prepare a Draft Environmental Impact Statement (DEIS) for a Study on the Feasibility of Deepening Charleston Harbor

AGENCY: Department of the Army, U.S. Army Corps of Engineers, DOD.

ACTION: Notice of Intent.

SUMMARY: The U.S. Army Corps of Engineers (Corps), Charleston District, intends to prepare a Draft Environmental Impact Statement (DEIS), for the Charleston Harbor Deepening Study (Post-45 study). The purpose of this DEIS and feasibility study is to investigate modification of the existing Charleston Harbor project in the interest of navigation improvements.

FOR FURTHER INFORMATION CONTACT: Questions about the proposed action and DEIS can be directed to: Mark Messersmith, (843) 329-8162, Chas-Post45-Comments@usace.army.mil, 69 A Hagood Ave., Charleston, SC 29403. To submit comments please see our Web site at: http://www.sac.usace.army.mil/?action=programs.post45.

SUPPLEMENTARY INFORMATION: a. Background: Since 2000, the total value of international trade has risen by over 40 percent and it is becoming a larger part of our national economy. The combined value of foreign trade (imports and exports) represented 13 percent of GDP in 1990, rising to nearly 22 percent in 2006. If this trend continues, it is projected that the value of U.S. foreign trade will be equivalent to 35 percent of the Nation's GDP in 2020 and 60 percent in 2030. Marine transportation will become even more important to our economy as 95 percent of America's foreign trade is moved by ship. To sustain expected growth, it is estimated the U.S. must expand its overall port capacity by 10 percent annually. This would require port expansion, mainly on the West Coast, Gulf Coast and South Atlantic. That is the equivalent of adding capacity equal to the Port of Oakland every year.

The Charleston port district's ranking as a global trading port is consistently in the top ten nationally in container traffic and cargo value. In 2009, the Charleston port district was ranked ninth (out of 200 deep-draft ports) in cargo value, and ninth (out of 80 container ports) in container traffic.

Shipping trends in Charleston show adherence to projections for considerable growth in ship size, in all three dimensions, draft, beam, and length. As economies of scale and improved vessel technologies have driven ship sizes larger, the world's port infrastructure must be rapidly expanded in channel depths and widths and terminal capacity to accommodate larger ships. The number of ports able to handle larger vessels around the world is growing, and, most importantly, the Panama Canal is currently expanding lock capacity to handle ships of 25% greater draft (up to 50 ft), 52% greater beam (up to 160 feet), and 30% greater length (up to 1250 feet). Ships have been under construction for several years to be ready for the new canal capacity when the new Panama Canal locks open in 2014.

b. Objectives: There is opportunity to deepen the navigation channel at Charleston Harbor to accommodate larger container vessels. Particularly important is the great increase in the deployment of those vessels, which is occurring now and expected to increase when the Panama Canal Expansion Project is completed in 2014. These larger vessels, commonly referred to in the shipping industry as the “Super Post-Panamax” vessels, are expected to comprise greater percentages of vessel fleet composition over the next several decades. This transition to larger vessels is expected to occur rapidly and current Panamax vessels are expected to no longer be used in the Asia service by 2024. Additional depth would be required to serve existing users of Charleston Harbor by that time, as the transition from the current Panamax fleet is complete.

c. Alternatives: The reconnaissance level alternatives analysis does not constitute a complete analysis of the full array of potential alternatives nor does it define a preferred alternative or National Economic Development (NED) plan. Detailed analyses are expected to be conducted in the proposed feasibility phase and would likely involve evaluation of all alternatives to address the problems and opportunities. The array of alternatives that may be examined in the feasibility study would likely include navigational improvements to some or all of the channels in Charleston Harbor, including (1) deepening channel(s) up to 50 feet MLLW or more, (2) widening channel(s), (3) adjusting existing channel alignments/bend easing, and (4) widening and/or lengthening turning basins.

During the feasibility phase, Charleston Harbor will be evaluated to identify the extent to which the array of alternatives will be applied to each reach of the Federal Navigation Channel. Problems and opportunities pertinent to each reach will be identified and investigated. A matrix of reach specific alternative plans will be developed and evaluated to produce a recommended plan for improvements to Charleston Harbor. This process will include the appropriate level of engineering, economic, and environmental analyses to identify all possible benefits and impacts associated with the projected navigational improvements.

Additional channel depth would allow current and future shippers to more fully utilize larger class vessels and would reduce future anticipated congestion. The current depth of the existing inner harbor channel is 45 feet MLLW. The Entrance Channel from the Atlantic Ocean through the jetties is 47 feet MLLW deep to allow for wave action.

d. Issues: The DEIS will consider the possible effects of channel deepening/widening on aquatic resources, loss of wetlands, as well as other project related impacts on protected species, water quality, fish and wildlife resources, cultural resources, essential fish habitat, socio-economic resources, coastal processes, aesthetics, and other impacts identified through scoping, public involvement, and agency coordination.

e. Scoping process: The scoping process as outlined by the Council on Environmental Quality would be utilized to involve Federal, State, and local agencies, and other interested persons and organizations. A scoping letter will be sent to the appropriate parties regarding issues to consider during the study. Public scoping meetings would be held throughout the process. Exact dates, times, and locations will be published in local papers.

Dated: July 29, 2011.
Edward P. Chamberlayne,
Lieutenant Colonel, EN, Commander, U.S. Army Engineer District, Charleston.

[FR Doc. 2011-20518 Filed 8-11-11; 8:45 am]

BILLING CODE 3720-58-P